DEPARTMENT OF HEALTH AND HUMAN SERVICES

Centers for Disease Control and Prevention

Disease, Disability, and Injury Prevention and Control Special Emphasis Panel (SEP)—RFA-CE19-001; Correction

Notice is hereby given of a change in the meeting of the Disease, Disability, and Injury Prevention and Control Special Emphasis Panel (SEP)—RFA-CE19-001; October 30-November 2, 2018, 8:30 a.m.-5:00 p.m., EDT which was published in the Federal Register on August 23, 2018 Volume 83, Number 164, pages 42655-42656.

The date should read as follows: October 29, 2018, 3:00 p.m.-5:00 p.m., EDT, October 30-November 2, 2018, 8:00 a.m.-5:00 p.m., EDT.

FOR FURTHER INFORMATION CONTACT: Mikel L. Walters, M.A., Ph.D., Scientific Review Official, NCIPC, CDC, 4770 Buford Highway NE, Mailstop F-63, Atlanta, Georgia 30341, (404)639-0913; mwalters@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2018-23297 Filed 10-24-18; 8:45 am]

BILLING CODE 4163-18-P